DEPARTMENT OF DEFENSE

GENERAL SERVICES ADMINISTRATION

NATIONAL AERONAUTICS AND SPACE ADMINISTRATION

[OMB Control No. 9000-0136; Docket 2012-0076; Sequence 63]

Federal Acquisition Regulation; Information Collection; Commercial Item Acquisitions

AGENCY: Department of Defense (DOD), General Services Administration (GSA), and National Aeronautics and Space Administration (NASA).

ACTION: Notice of request for comments regarding an extension to an existing OMB clearance.

SUMMARY: Under the provisions of the Paperwork Reduction Act, the Regulatory Secretariat will be submitting to the Office of Management and Budget (OMB) a request to review and approve an extension of a previously approved information collection requirement concerning the clauses and provisions required for use in commercial item acquisitions.

DATES: Submit comments on or before May 28, 2013.

ADDRESSES: Submit comments identified by Information Collection 9000-0136, Commercial Item Acquisitions, by any of the following methods:

• Regulations.gov: http://www.regulations.gov. Submit comments via the Federal eRulemaking portal by searching the OMB control number. Select the link “Submit a Comment” that corresponds with “Information Collection 9000-0136, Commercial Item Acquisitions”. Follow the instructions provided at the “Submit a Comment” screen. Please include your name, company name (if any), and “Information Collection 9000-0136, Commercial Item Acquisitions” on your attached document.

• Fax: 202-501-4067.

• Mail: General Services Administration, Regulatory Secretariat (MVCB), 1275 First Street NE., Washington, DC 20417. ATTN: Hada Flowers/IC 9000-0136, Commercial Item Acquisitions.

Instructions: Please submit comments only and cite Information Collection 9000-0136, Commercial Item Acquisitions, in all correspondence related to this collection. All comments received will be posted without change to http://www.regulations.gov, including any personal and/or business confidential information provided.

FOR FURTHER INFORMATION CONTACT: Mr. Michael O. Jackson, Procurement Analyst, Office of Governmentwide Acquisition Policy, GSA (202) 208-4949 or email at michaelo.jackson@gsa.gov.

SUPPLEMENTARY INFORMATION:

A. Purpose

The Federal Acquisition Streamlining Act of 1994 included Title VIII, entitled Commercial Items. The title made numerous additions and revisions to both the civilian agency and Armed Service acquisition statutes to encourage and facilitate the acquisition of commercial items and services by Federal Government agencies.

To implement these changes, DoD, NASA, and GSA amended the Federal Acquisition Regulation (FAR) to include several streamlined and simplified clauses and provisions to be used in place of existing clauses and provisions. They were designed to simplify solicitations and contracts for commercial items. Information is used by Federal agencies to facilitate the acquisition of commercial items and services.

Pertinent to this information collection is the FAR provision at 52.212-3, Offeror Representations and Certifications-Commercial Items. The provision is among the representations and certifications that are available for completion in the On-line Representation and Certification Application (ORCA) function of the System for Award Management (SAM) database. Because an offeror only has to complete representations and certifications once on an annual basis, with periodic updates, use of the ORCA function by prospective contractors decreases the number of responses per respondent per year for purposes of this information collection. ORCA was developed to eliminate the administrative burden for contractors of submitting the same information to various contracting offices, and to establish a common source for this information to procurement offices across the Government. Prior to ORCA's implementation, prospective contractors were required to submit representations and certifications in paper form for each individual contract award. Using the ORCA function in SAM, a contractor can enter their representations and certification information once for use on all Federal contracts. FAR 4.1201(a) requires prospective contractors to complete electronic annual representations and certifications in conjunction with required registration in the Central Contractor Registration (CCR). These requiremnts are met through functionality in SAM. The ORCA function reuses data pulled from the CCR function and, in many cases, pre-populates several of the required representations and certifications with CCR data. The representations and certifications are effective until one year from the date of submission or update to the ORCA function in SAM.

B. Annual Reporting Burden

Because ORCA allows for multiple uses from one entry, i.e., a contractor can enter their representations and certification information once a year (with any needed updates) for use on all Federal contracts, the number of responses per respondent has decreased from the currently approved number 34 to 4. For purposes of this information collection, initial entry plus three updates are estimated as the number of responses per respondent per year, i.e., 4 responses per respondent. As of May 2012, there were 162,000 vendors registered in the ORCA function of SAM. For purposes of estimation, the number of vendors registered in the ORCA function of SAM will serve as the number of respondents. Data entry by contractors is estimated at 30 minutes per response. As a result, a downward adjustment is being made to the estimated annual reporting burden since the notice regarding an extension to this clearance published in the Federal Register at 75 FR 6668, on February 10, 2010.

Respondents: 162,000.

Responses per Respondent: 4.

Total Responses: 648,000.

Hours per Response: .5.

Total Burden Hours: 324,000.

Obtaining Copies of Proposals: Requesters may obtain a copy of the information collection documents from the General Services Administration, Regulatory Secretariat (MVCB), 1275 First Street NE., Washington, DC 20417, telephone (202) 501-4755. Please cite OMB Control No. 9000-0136 regarding Commercial Item Acquisitions in all correspondence.

Dated: March 20, 2013.
William Clark,
Acting Director, Federal Acquisition Policy, Office of Governmentwide Acquisition Policy, Office of Acquisition Policy, Office of Governmentwide Policy.

[FR Doc. 2013-06856 Filed 3-25-13; 8:45 am]

BILLING CODE 6820-EP-P